DEPARTMENT OF HOMELAND SECURITY

Coast Guard

33 CFR Part 117

[Docket No. USCG-2013-1036]

Drawbridge Operation Regulation; Hillsborough River, Tampa, FL

AGENCY: Coast Guard, DHS.

ACTION: Notice of deviation from drawbridge regulation.

SUMMARY: The Coast Guard has issued a temporary deviation from the operating schedule that governs the Hillsborough Avenue Bridge across the Hillsborough River, mile 4.8, at Tampa, Florida, to facilitate repairs. The deviation is necessary to provide repair personnel the time needed to safely remove equipment on the bridge prior to opening. This deviation allows the bridge a limited opening providing 20 feet of vertical clearance if four hours advanced notice is given. Special arrangements with the bridge owner can be made for full openings.

DATES: This rule is effective without actual notice from January 29, 2014 until 7 p.m. on May 30, 2014. For the purposes of enforcement, actual notice will be used from 7 a.m. on January 6, 2014, until January 29, 2014.

ADDRESSES: The docket for this deviation, [USCG-2013-1036] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Michael Lieberum, Chief Operations Section, Seventh Coast Guard District, Bridge Branch; telephone 305-415-6744, email michael.b.lieberum@uscg.mil. If you have questions on viewing the docket, call Cheryl Collins, Program Manager, Docket Operations, telephone 202-366-9826.

SUPPLEMENTARY INFORMATION: The Florida Department of Transportation (FDOT) requested that the Hillsborough Avenue Bridge across the Hillsborough River, Tampa, Florida regulation be temporarily changed during the repairs to this bridge. The vertical clearance of the bridge in the closed position is 10 feet. per 33 CFR 117.291(a), “[t]he drawspans for the drawbridges at Platt Street, mile 0.0, Brorein Street, mile 0.16, Kennedy Boulevard, mile 0.4, Cass Street, mile 0.7, Laurel Street, mile 1.0, West Columbus Drive, mile 2.3, and West Hillsborough Avenue, mile 4.8, must open on signal if at least two hours notice is given; except that, the drawspan must open on signal as soon as possible for public vessels of the United States.”

An FDOT contractor originally requested to place the bridge on a four hour notice for a 20 foot vertical clearance opening from November 2013 through August 2014. This request was contested by the local marine community; therefore, the Coast Guard sought measures to ensure the bridge work could be conducted safely without unreasonably obstructing navigation through this area. Based on documentation received and subsequent coordination with FDOT and local marine interests, the Coast Guard determined that the following restrictions to the Hillsborough Avenue Bridge do not unreasonably restrict navigation and provide for the safety of workers and the movable bridge structure.

The Hillsborough Avenue Bridge will open to a height of 20 feet of vertical clearance with a four hour notice to the bridge tender. The normal vertical clearance of the bridge in the closed position of 10 feet will be reduced by 4 feet to accommodate the painting tarps. Vessels requiring less than six feet of vertical clearance may pass at any time. Vessels requiring more than 20 feet of vertical clearance need to contact Mr. Jim Fitzer, the project manager, at 813-636-2451 to coordinate a scheduled opening. Additionally, approximately 10 nighttime closures from 8:00 p.m. until 6:00 a.m. may be required to complete repairs to Hillsborough Avenue Bridge. Notice will be published when these nighttime closures are required.

The Coast Guard will inform waterway users of the change in operating schedule for this bridge through the Local Notice to Mariners. Mariners are advised to use this information in order to arrange safe transit through this bridge and minimize any delay caused by this temporary deviation.

In accordance with 33 CFR 117.35(e), the drawbridge must return to its regular operating schedule immediately at the end of the effective period of this temporary deviation. This deviation from the operating regulations is authorized under 33 CFR 117.35.

Dated: January 3, 2014.
B. Dragon,
Director, Seventh Coast Guard District, Bridge Administration.

[FR Doc. 2014-01600 Filed 1-28-14; 8:45 am]

BILLING CODE 9110-04-P